ENVIRONMENTAL PROTECTION AGENCY

[EPA-HQ-OPP-2018-0266; FRL-9987-28-OMS]

Information Collection Request Submitted to OMB for Review and Approval; Comment Request; Foreign Purchaser Acknowledgement Statement of Unregistered Pesticides (Renewal)

AGENCY: Environmental Protection Agency (EPA).

ACTION: Notice.

SUMMARY: The Environmental Protection Agency (EPA) has submitted the following information collection request (ICR) to the Office of Management and Budget (OMB) for review and approval in accordance with the Paperwork Reduction Act (PRA): Foreign Purchaser Acknowledgement Statement of Unregistered Pesticides and identified by EPA ICR No. 0161.14 and OMB Control No. 2070-0027. This is a request to renew the approval of an existing ICR. The ICR, which is available in the docket along with other related materials, provides a detailed explanation of the collection activities and the burden estimate that is only briefly summarized in this document. EPA did not receive any comments in response to the previously provided public review opportunity issued in the Federal Register on July 25, 2018. With this submission, EPA is providing an additional 30 days for public review and comment.

DATES: Comments must be received on or before April 25, 2019.

ADDRESSES: Submit your comments, identified by docket identification (ID) number EPA-HQ-OPP-2018-0266 and OMB Control No. 2070-0027, to: (1) EPA online using http://www.regulations.gov (our preferred method) or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the docket without change, including any personal information provided, unless the comment includes profanity, threats, information claimed to be Confidential Business Information (CBI), or other information whose disclosure is restricted by statute. Do not submit electronically any information you consider to be CBI or other information whose disclosure is restricted by statute.

FOR FURTHER INFORMATION CONTACT: Carolyn Siu, Field External Affairs Division (7506P), Office of Pesticide Programs, Environmental Protection Agency, 1200 Pennsylvania Ave. NW, Washington, DC 20460-0001; telephone number: (703) 543-9488; email address: siu.carolyn@epa.gov.

SUPPLEMENTARY INFORMATION:

Docket: Supporting documents, including the ICR that explains in detail the information collection activities and the related burden and cost estimates that are summarized in this document, are available in the docket for this ICR. The docket can be viewed online at http://www.regulations.gov or in person at the EPA Docket Center, West William Jefferson Clinton Bldg., Rm. 3334, 1301 Constitution Ave. NW, Washington, DC. The telephone number for the Docket Center is (202) 566-1744. For additional information about EPA's public docket, visit http://www.epa.gov/dockets.

ICR status: This ICR is currently scheduled to expire on March 31, 2019. Under OMB regulations, the Agency may continue to conduct or sponsor the collection of information while this submission is pending at OMB. Under PRA, 44 U.S.C. 3501 et seq., an agency may not conduct or sponsor, and a person is not required to respond to, a collection of information, unless it displays a currently valid OMB control number

Abstract: This ICR addresses the information collection activities associated with the statutory mandate requiring EPA to provide notice to foreign purchasers of unregistered pesticides exported from the United States that the pesticide product cannot be sold in the United States. Section 17(a)(2) of the Federal Insecticide, Fungicide, and Rodenticide Act (FIFRA) requires an exporter of any pesticide not registered under FIFRA section 3 or sold under FIFRA section 6(a)(1) to obtain a signed statement from the foreign purchaser acknowledging that the purchaser is aware that the pesticide is not registered for use in, and cannot be sold in, the United States. A copy of this statement; which is known as the Foreign Purchaser Acknowledgement Statement, or FPAS, must be transmitted to the Designated National Authority or appropriate official of the government in the importing country. This information is submitted in the form of annual or per-shipment statements to the EPA, which maintains original records and transmits copies, along with an explanatory letter to appropriate government officials of the countries that are importing the pesticide. In addition to the export notification for unregistered pesticides, FIFRA requires that all exported pesticides include appropriate labeling. There are different requirements for registered and unregistered products. Export labeling requirements meet the definition of third-party notification. In the interests of consolidating various related information collection requests, this ICR includes the burden estimates for the FPAS requirement for unregistered pesticides, as well as the labeling requirement for all exported pesticides, both registered and unregistered.

Respondents/Affected Entities: Individuals or entities that either manufacture and export pesticides or that reformulate or repackage and export pesticides. The North American Industrial Classification System (NAICS) code assigned to the parties responding to this information is 3250A1.

Respondent's obligation to respond: Mandatory.

Estimated total number of potential respondents: 2,240 annually.

Frequency of response: On occasion.

Estimated total burden: 16,660 hours (per year). Burden is defined at 5 CFR 1320.3(b).

Estimated total costs: $1,087,102. This is the estimated burden cost, which includes no capital investment or maintenance and operational costs.

Changes in the estimates: There is a decrease of 1,333 hours in the total estimated respondent burden compared with the ICR currently approved by OMB. This decrease reflects a reduction in the annual number of foreign purchaser acknowledgment statements received by EPA (from 3,024 to 2,774), which resulted in a corresponding decrease in the estimated annual burden hours for respondents (from 3,205 to 2,940 hours); and a reduction in the estimated annual burden associated with labeling requirements. The respondent burden associated with labeling requirements for unregistered exported pesticides decreased from 4,888 to 4,480 hours; and from 9,900 to 9,240 hours associated with labeling requirements for registered exported pesticides. The decrease in burden associated with labeling requirements is due to a reduction in the number of respondents per calendar years 2015-2017. Total labor costs for respondents decreased due to a decrease in the estimated number of respondents per calendar year from 2015-2017 and an update to the wage rate estimates, which incorporated higher estimates for benefits than was used in the previous renewal. These changes qualify as adjustments.

Courtney Kerwin,
Director, Regulatory Support Division.

[FR Doc. 2019-05709 Filed 3-25-19; 8:45 am]

BILLING CODE 6560-50-P